DEPARTMENT OF HEALTH AND HUMAN SERVICES

Office of the Secretary

[Document Identifier: 0990-New—60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate below or any other aspect of the ICR.

DATES: Comments on the ICR must be received on or before November 29, 2016.

ADDRESSES: Submit your comments to Information.CollectionClearance@hhs.gov or by calling (202) 690-5683.

SUPPLEMENTARY INFORMATION: When submitting comments or requesting information, please include the document identifier 0990-New—60D for reference.

Information Collection Request Title: Assessment of the Impact of Energy Development on the Behavioral Health of Women in Western North Dakota and Eastern Montana.

Abstract: Region VIII Office of the Assistant Secretary for Health (OASH), Office on Women's Health (OWH) is requesting approval from the Office of Management and Budget (OMB). The Office on Women's Health (OWH) in the Office of the Assistant Secretary for Health, U.S. Department of Health and Human Services (HHS) was established in 1991. Its mission is to provide national leadership and coordination to improve the health of women and girls through policy, education and model programs. The vision of the Office on Women's Health is that all women and girls achieve the best possible health. OASH/OWH has ten regional offices located throughout the country. As a leader in women health, OWH supports the development of culturally-based, gender-sensitive programs to address health disparities. Region VIII OASH/OWH is interested in improving women's behavioral health associated with the impact of energy development through gender based data collection and analysis. The discovery and subsequent development of the Parshall Oil Field within the Bakken region of Western North Dakota has led to significant economic opportunity and population growth in the region (Eastern Montana and Western North Dakota). Rapid population growth has many intended and unintended consequences, both positive and negative, on the social and economic environment of the region and, consequently, the population's health and well-being. There are well-documented environmental health issues associated with oil and gas development, including air, water, soil, noise, and light pollution. However, there are additional social, physical and mental health effects that are less well documented. Current research is very limited, but preliminary evidence suggests that women have unmet behavioral health needs due in part to the energy development and population surge in region. In 2013, The U.S. Department of Health and Human Services (HHS), Region VIII Offices, including the Office of the Assistant Secretary for Health (OASH), Office on Women's Health (OWH) began to have discussions directly with state/local contacts about the impact this was having on public health and the specific impacts on women. Given this history and context, the Region VIII OASH/OWH, is undertaking an assessment to examine the impact of energy development on women's behavioral health in Western North Dakota and Eastern Montana.

Likely Respondents: Data for this assessment will be collected through three mechanisms—a survey of women living in the assessment geography, approximately 20 focus groups with a cross-section of women and other key groups living in the assessment geography, and approximately 40 interviews with key leaders and stakeholders across a variety of governmental and non-governmental sectors. Combined, these data collection mechanisms will provide a quantitative and qualitative portrait of women's behavioral health in the region.

Total Estimated Annualized Burden—Hours
Form name | Number of respondents | Number of responses per respondent | Average burden per response (in hours) | Total burden hours
Community Survey | 500 | 1 | 15/60 | 125
Focus Groups | 240 | 1 | 90/60 | 360
Interviews | 40 | 1 | 1/60 | 40
Total |  |  |  |

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2016-23619 Filed 9-29-16; 8:45 am]

BILLING CODE 4150-33-P